DEPARTMENT OF HEALTH AND HUMAN SERVICES

National Institutes of Health

Center for Scientific Review; Amended Notice of Meeting

Notice is hereby given of a change in the meeting of the Biomedical Computing and Health Informatics Study Section, October 2, 2008, 8 a.m. to October 2, 2008, 5 p.m., Hilton Washington DC/Rockville, 1750 Rockville Pike, Rockville, MD 20852, which was published in the Federal Register on August 18, 2008, 73 FR 48219-48220.

The meeting will be held October 2, 2008, 8 a.m. to 12:30 p.m. The meeting location remains the same. The meeting is closed to the public.

Dated: August 25, 2008.
Jennifer Spaeth,
Director, Office of Federal Advisory Committee Policy.

[FR Doc. E8-20192 Filed 9-2-08; 8:45 am]

BILLING CODE 4140-01-M